NATIONAL AERONAUTICS AND SPACE ADMINISTRATION

[Notice (22-058)]

NASA Heliophysics Advisory Committee; Space Weather Council; Meeting

AGENCY: National Aeronautics and Space Administration.

ACTION: Notice of meeting.

SUMMARY: In accordance with the Federal Advisory Committee Act, the National Aeronautics and Space Administration (NASA) announces a meeting of the Space Weather Council. The Space Weather Council is a subcommittee of the NASA Heliophysics Advisory Committee. The Committee functions in an advisory capacity to the Director, Heliophysics Division, in the NASA Science Mission Directorate. The meeting will be held for the purpose of soliciting, from the science community and other persons, scientific and technical information relevant to program planning.

DATES: Wednesday, August 24, 2022, 10:00 a.m. to 5:00 p.m., Eastern Time.

ADDRESSES: The public meeting will be conducted virtually.

FOR FURTHER INFORMATION CONTACT: Mrs. KarShelia Kinard, Science Mission Directorate, NASA Headquarters, Washington, DC 20546, (202) 358-2355, or karshelia.kinard@nasa.gov.

SUPPLEMENTARY INFORMATION: This meeting will be available telephonically and via WebEx. You must use a touch-tone phone to participate in this meeting. Any interested person may dial the USA toll free conference call number 1-800-369-1157 or toll number 1-630-395-0108, participant code 8005198, August 24, to participate in this meeting by telephone. The WebEx link is https://nasa.webex.com/; the meeting number is 2762 251 4910; the password is Ht4JZM8tn$2 (case sensitive).

The agenda for the meeting includes the following topics:

• The role of the Space Weather Council relative to other government advisory groups

• Space weather research gaps

• Opportunities for interagency collaboration

Patricia Rausch,
Advisory Committee Management Officer, National Aeronautics and Space Administration.

[FR Doc. 2022-16792 Filed 8-4-22; 8:45 am]

BILLING CODE 7510-13-P